DEPARTMENT OF DEFENSE

Department of the Navy

Notice of Intent To Prepare a Supplemental Environmental Impact Statement (SEIS) for the Disposal and Reuse of Hunters Point Shipyard, San Francisco, California and To Announce a Public Scoping Meeting

AGENCY: Department of the Navy, DoD.

ACTION: Notice.

SUMMARY: Pursuant to Section (102)(2)(c)of the National Environmental Policy Act (NEPA) of 1969, and the regulations implemented by the Council on Environmental Quality (40 CFR Parts 1500-1508), the Department of the Navy (Navy) announces its intent to prepare a Supplemental Environmental Impact Statement (SEIS) to evaluate the potential environmental consequences of the proposed disposal and reuse of the surplus portion of Hunters Point Shipyard, San Francisco, California.

DATES AND ADDRESSES: A public scoping meeting will be held on Tuesday, September 23, 2008, from 6 p.m. to 8 p.m. at the Southeast Community Facility, Alex L. Pitcher Community Room, 1800 Oakdale Avenue, San Francisco, California 94124. The purpose of the meeting will be to receive oral and written comments on environmental concerns that should be addressed in the SEIS.

FOR FURTHER INFORMATION CONTACT: Mr. Patrick McCay, telephone: 619-532-0906; E-Mail: patrick.mccay@navy.mil or write to: Director, BRAC PMO West, ATTN: Mr. Patrick McCay, 1455 Frazee Road, Suite 900, San Diego, CA 92108.

SUPPLEMENTARY INFORMATION: The proposal being evaluated in the SEIS is the disposal and reuse of Hunters Point Shipyard, which encompasses approximately 860 acres (417 acres of dry land and 443 acres of submerged land) on a peninsula along San Francisco's southeastern waterfront between the City's Financial District and San Francisco International Airport. In 2004, Parcel A, approximately 76 acres, was transferred to the City of San Francisco and is not considered as part of the proposed federal action. The new proposed federal action is a change in reuse from, and represents an amendment to, the original proposed Hunters Point Redevelopment Plan, as addressed by the Navy in the “Final EIS for the Disposal and Reuse of Hunters Point Shipyard” (March 2000).

The Navy is the action proponent for the new proposal, which is also a component of the Bayview Waterfront Project being addressed in an Environmental Impact Report by the Redevelopment Agency of the City and County of San Francisco and the Planning Department of the City and County of San Francisco. The purpose of and need for the proposed action is to dispose of surplus federal property at Hunters Point Shipyard which was closed in accordance with the Defense Base Closure and Realignment for subsequent reuse.

For the SEIS, two alternatives will be considered as part of the disposal and reuse action: Stadium Plan Alternative and Non-Stadium Plan Alternative. The Stadium Plan Alternative includes a mixed-use community comprising 2,500 new residential units, 125,000 square feet of retail space, 2,000,000 square feet of research and development (R&D) space, 250 acres of parks and recreational open space, and civic and community uses. A major component would be a new, 69,000-seat National Football League stadium for the San Francisco 49ers.

The Non-Stadium Plan Alternative would not include the stadium for the San Francisco 49ers, but instead would provide 5,000,000 square feet of R&D space, in addition to the other components noted under the Stadium Plan Alternative for residential, retail, R&D, parks and recreation, and civic and community use space. Both action alternatives would be consistent with specifications of the Bayview Jobs, Parks and Housing Initiative (Proposition G), which was approved by San Francisco voters in June of 2008.

The SEIS will also consider a No Action Alternative.

Environmental issues areas to be addressed in the SEIS include: Transportation, traffic and circulation, air quality, noise, cultural resources, hazards and hazardous materials, land use compatibility and policy conformity, geology and soils, hydrology and water quality, biological resources, public services, utilities, population and housing, visual resources, and energy.

The Navy will initiate a scoping process for the purpose of determining the extent of issues to be addressed, and identifying significant issues related to the disposal and reuse of Hunters Point Shipyard. This process will include a public scoping meeting as noted in the Dates and Addresses Section of this notice and which will be advertised in area newspapers.

Navy representatives will be available at the meeting to receive comments from the public regarding issues of concern. Federal, state, and local agencies, and interested individuals are encouraged to take this opportunity to identify environmental concerns that should be addressed during the preparation of the SEIS. Agencies and the public are also invited and encouraged to provide written comments on scoping issues in addition to, or in lieu of, oral comments at the public meeting. To be most helpful, scoping comments should clearly describe specific issues or topics that the commenter believes the SEIS should address.

Written comments must be postmarked no later than October 17, 2008, and mailed to: Director, BRAC PMO West, ATTN: Mr. Patrick McCay, 1455 Frazee Road, Suite 900, San Diego, California 92108; e-mail: patrick.mccay@navy.mil; Fax: 619-532-0940.

Dated: August 28, 2008.
T. M. Cruz,
Lieutenant Commander, Judge Advocate General's Corps, U.S. Navy, Federal Register Liaison Officer.

[FR Doc. E8-20592 Filed 9-4-08; 8:45 am]

BILLING CODE 3810-FF-P